DEPARTMENT OF TRANSPORTATION

Office of the Secretary

Notice of Applications for Certificates of Public Convenience and Necessity and Foreign Air Carrier Permits Filed Under Subpart B (Formerly Subpart Q) During the Week Ending July 21, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0119.

Date Filed: July 17, 2012.

Due Date for Answers, Conforming Applications, or Motion to Modify Scope: August 7, 2012.

Description:

Application of Rizon Qatar Company W.L.L. (“Rizon Jet”) requesting a foreign air carrier permit to engage in charter foreign air transportation of persons and property between any point or points in the United States and any point or points in Qatar. Rizon Jet also requests exemption authority to engage in the above-described operations pending issuance of its foreign air carrier permit.

Docket Number: DOT-OST-2012-0127.

Date Filed: July 19, 2012.

Due Date for Answers, Conforming Applications, or Motion to Modify Scope: August 9, 2012.

Description: Application of PrivatAir GmbH requesting a foreign air carrier permit to engage in charter foreign air transportation of persons, property and mail co-extensive with the rights conferred on E.U. carriers by the U.S.-E.U. Air Transport Agreement, as follows: (i) From any point or points behind any Member State of the European Union via any point or points in any Member State and via intermediate points to any point or points in the United States and beyond; (ii) between any point or points in the United States and any point or points in any member of the European Common Aviation Area, and (iii) other charters.

Barbara J. Hairston,
Supervisory Dockets Officer, Docket Operations, Alternate Federal Register Liaison.

[FR Doc. 2012-19586 Filed 8-8-12; 8:45 am]

BILLING CODE 4910-9X-P